DEPARTMENT OF TRANSPORTATION

Research and Special Programs Administration

Office of Hazardous Materials Safety; Notice of Applications for Modification of Exemption

AGENCY: Research and Special Programs Administration, DOT.

ACTION: List of Applications for Modification of Exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Request for modifications of exemptions (e.g. to provide for additional hazardous material, packaging design changes, additional mode of transportation, etc.) are described in footnotes to the application number. Application numbers with the suffix “M” denote a modification request. These applications have been separated from the new applications for exemptions to facilitate processing.

DATES: Comments must be received on or before September 30, 2002.

Address Comments To: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms/dot.gov.

This notice of receipt of applications for modification of exemptions is published in accordance with Part 107 of the Federal hazardous materials transportation law (49 U.S.C. 5117(b); 49 CFR 1.53(b)).

Issued in Washington, DC, on August 22, 2002.
R. Ryan Posten,
Exemptions Program Officer, Office of Hazardous Materials, Exemptions and Approvals.

Application No. | Docket No. | Applicant | Modification of exemption
9419-M |  | FIBA Technologies, Inc., Westboro, MA (See Footnote 1) | 9419
9909-M |  | Taylor-Wharton, Harrisburg, PA (See Footnote 2) | 9909
12384-M | RSPA-99-6561 | OilAir Hydraulics, Inc., Houston, TX (See Footnote 3) | 12384
12880-M | RSPA-01-11100 | Northrop Grumman Corporation, Baltimore, MD (See Footnote 4) | 12880
13002-M | RSPA-02-12300 | Department of Defense (MTMC), Fort Eustis, VA (See Footnote 5) | 13002
13016-M | RSPA-02-12397 | Carrier Transicold, Syracuse, NY (See Footnote 6) | 13016
¹ To modify the exemption to authorize the elimination of the annual quantity limitation when performing the acoustic emission testing (AET) on DOT Specifications cylinders for the transportation of various Division 2.1 and 2.2 gases.
² To modify the exemption to authorize the elimination of the Fracture Toughness Test requirement of non-DOT specification steel cylinders transporting Division 2.1, 2.2 and 2.3 materials.
³ To modify the exemption to authorize a change to the packaging requirements for pre-charged accumulators over 1-gallon capacity containing a Division 2.2 material and add passenger-carrying aircraft as an additional mode of transportation.
⁴ To modify the exemption to authorize a new shipping container design for the transportation of Class 9 materials.
⁵ To modify the exemption to reissue the exemption originally issued on an emergency basis for the transportation of Division 2.2 materials in accumulators.
⁶ To reissue the exemption originally issued on an emergency basis for the release of a Division 2.2 gas from a DOT Specification cylinder used in refrigerating equipment.

[FR Doc. 02-23280 Filed 9-12-02; 8:45 am]

BILLING CODE 4910-60-M